DEPARTMENT OF THE INTERIOR

Bureau of Land Management

[NV-025-1232-EA-NV06; Special Recreation Permit # NV-025-05-01]

Notice of Temporary Closure of Public Lands: Pershing, Washoe, & Humboldt Counties, NV

AGENCY: Bureau of Land Management, Winnemucca Field Office, Nevada, Interior.

ACTION: Notice to the public of temporary closures on public lands administered by the Bureau of Land Management, Winnemucca Field Office, Nevada.

SUMMARY: Notice is hereby given that certain lands will be temporarily closed to public use in and around the Paragon Astronautics rocket launch site, located in Pershing, Washoe and Humboldt counties, Nevada, from 0700 to 1200 hours, September 27, 2005-September 30, 2005; October 3, 2005-October 7, 2005; and October 11, 2005-October 14, 2005. These closures are being made in the interest of public safety at and around the location of an amateur high-altitude rocket launch site. This event is expected to attract approximately 50 participants. The lands involved are located northeast of Gerlach, Nevada in the Mount Diablo Meridian.

The following Public Lands are closed to public use: Public land areas north of the Union Pacific Railroad tracks, east of State Highway 34 and County Road 200, and west of the Pahute Peak and Black Rock Desert wilderness boundaries within the following legally described areas:

Unsurveyed T33.5N, R24E

Sec. 25-28, 33-36

Unsurveyed T33N R24E

Sec., 1-5, 8-12, 14-18, 19-22, 29-30

Unsurveyed T33N, R25E

Sec. 3,4

Unsurveyed T34N, R24E

Sec. 1,2, 11,12, 13-15, 22-24, 25-27, 34-36

Unsurveyed T34N, R25E

Sec.1-4, 9-16, 21-28, 33-36

Unsurveyed T34N, R26E

Sec. 1-23, 28-31

Unsurveyed T34N, R27E

Sec. 3-6, 7, 8

Unsurveyed T35.5N, R25E

Sec. 27-29, 32-34

Unsurveyed T35.5N, R26E

Sec. 25-36

Unsurveyed T35N, R24E

Sec. 13, 24-26, 35, 36

Unsurveyed T35N, R25E

Sec. 1-4,9-16, 21-28, 33-36

Unsurveyed T35N, R26E

Unsurveyed T35N R27E

Unsurveyed T36N, R25E

Sec. 1-3, 9-16, 21-28, 32-36

Unsurveyed T36N, R26E

Unsurveyed T36N, R27E

Sec. 4-9, 16-21, 28-33

Unsurveyed T37N, R25E

Sec. 22-27, 34-36

Unsurveyed T37N, R26E

Sec. 19-36

Unsurveyed T37N, R27E

Sec. 19-21, 28-33

To ensure public safety these lands will be closed to public use from 0700-1200 hours during the Paragon Astronautics permit period, with the exception of BLM personnel, law enforcement, emergency medical services, and Paragon Astronautics staff as designated by the BLM authorized officer.

A map showing these temporary closures, restrictions and prohibitions is available from the following BLM offices:

BLM-Winnemucca Field Office, 5100 East Winnemucca Blvd, Winnemucca, Nevada 89445-2921.

BLM-State Office, 1340 Financial Blvd, Reno, Nevada 89520-0006.

DATES: Closure to public use from 0700-1200 hours, September 27-30, 2005; October 3-7, 2005; and October 11-14, 2005.

FOR FURTHER INFORMATION CONTACT: Dave Lefevre, National Conservation Area Outdoor Recreation Planner, Bureau of Land Management, Winnemucca Field Office, 5100 E Winnemucca Blvd, Winnemucca, NV 89445, telephone: (775) 623-1500.

Authority: 43 CFR 8364.1.

Penalty: Any person failing to comply with the closure orders may be subject to imprisonment for not more than 12 months, or a fine in accordance with the applicable provisions of 18 U.S.C. 3571, or both.

Gail G. Givens,
Field Manager.

[FR Doc. 05-18607 Filed 9-19-05; 8:45 am]

BILLING CODE 4310-HC-P